DEPARTMENT OF ENERGY

Federal Energy Regulatory Commission

[Docket No. ER01-1320-000, et al.]

Central Maine Power Company, et al.; Electric Rate and Corporate Regulation Filings

February 28, 2001.

Take notice that the following filings have been made with the Commission:

1. Central Maine Power Company

[Docket No. ER01-1320-000]

Take notice that on February 23, 2001, Central Maine Power Company (CMP) tendered for filing a service agreement for Non-firm Local Point-to-Point Transmission Service entered into with Select Energy, Inc. Service will be provided pursuant to CMP's Open Access Transmission Tariff, designated rate schedule CMP-FERC Electric Tariff, Fifth Revised Volume No. 3, Original Service Agreement No. 119.

Comment date: March 16, 2001, in accordance with Standard Paragraph E at the end of this notice.

2. Kandiyohi Power Cooperative

[Docket No. ES01-21-000]

Take notice that on February 22, 2001, Kandiyohi Power Cooperative (Kandiyohi) submitted an application pursuant to section 204 of the Federal Power Act requesting authorization to make long-term borrowings under a loan agreement with the National Rural Utilities Cooperative Finance Corporation in an amount not to exceed $8.8 million.

Kandiyohi also requests a waiver from the Commission's competitive bidding and negotiated placement requirements at 18 CFR 34.2.

Comment date: March 21, 2001, in accordance with Standard Paragraph E at the end of this notice.

3. Linasa Cogeneracion y Asociados, S.L.

[Docket No. EG01-134-000]

Take notice that on February 23, 2001, Linasa Cogeneracion y Asociados, S.L. (LICA) filed with the Federal Energy Regulatory Commission (Commission) an application for determination of exempt wholesale generator status pursuant to Part 365 of the Commission's regulations.

LICA owns a 15 MW eligible facility located in Las Torres de Cotillas, Murcia, Spain. LICA states that it is engaged directly and exclusively in the business of owning and/or operating all or part of an eligible facility (as defined in Section 32(a)(1) of the Public Utility Holding Company Act); selling electricity at wholesale to Industria Jabonera LINA, S.A., the cogeneration host, and at wholesale to the local distribution utility, IBERDROLA, a publicly held Spanish corporation operating under the laws of Spain; and, possibly, selling electricity at retail to customers none of which will be located within the United States.

Comment date: March 21, 2001, in accordance with Standard Paragraph E at the end of this notice. The commission will limit its consideration of comments to those that concern the adequacy or accuracy of the application.

4. Puget Sound Energy, Inc.

[Docket No. ER01-1319-000]

Take notice that on February 23, 2001, Puget Sound Energy, Inc., tendered for filing a Netting Agreement with California Department of Water Resources (CDWR).

A copy of the filing was served upon CDWR.

Comment date: March 16, 2001, in accordance with Standard Paragraph E at the end of this notice.

5. The United Illuminating Company

[Docket No. ER01-1318-000]

Take notice that on February 23, 2001, The United Illuminating Company (UI) tendered for filing Service Agreement No. 21 under UI's FERC Electric Tariff, Second Revised Volume No. 4, a non-firm point-to-point transmission service agreement between UI and H.Q. Energy Services (U.S.) Inc.

UI requests an effective date for the service agreement of January 25, 2001.

Comment date: March 16, 2001, in accordance with Standard Paragraph E at the end of this notice.

6. Westar Generating, Inc.

[Docket No. ER01-1305-000]

Take notice that on February 23, 2001, Westar Generating, Inc. (Westar), tendered for filing proposed cost-based rates for sales to Western Resources, Inc., from Westar's 40 percent ownership share in the new State Line Combined Cycle Station presently under construction by The Empire District Electric Company (Empire) at the site of Empire's existing State Line Plant located in Jasper County, Missouri.

Westar asks that the Commission permit the rates to become effective March 19, 2001, the date the facility is expected to begin operational testing.

Westar states that it has served copies of its filing on the Kansas Corporation Commission and Western Resources.

Comment date: March 16, 2001, in accordance with Standard Paragraph E at the end of this notice.

7. Cargill-Alliant, LLC

[Docket No. ER01-1306-000]

Take notice that on February 23, 2001, Cargill-Alliant, LLC tendered for filing an application for authorization to make market-rate power sales to its affiliated public utilities.

Comment date: March 16, 2001, in accordance with Standard Paragraph E at the end of this notice.

8. DPL Energy

[Docket No. ER01-1307-000]

Take notice that on February 23, 2001, DPL Energy (DPLE), tendered for filing a long-term transaction agreement with The Dayton Power and Light Company.

Comment date: March 16, 2001, in accordance with Standard Paragraph E at the end of this notice.

9. New England Power Pool

[Docket No. ER01-1308-000]

Take notice that on February 23, 2001, the New England Power Pool (NEPOOL) Participants Committee hereby files for acceptance materials to terminate the status of Utility.com, Inc., as a NEPOOL Participant.

The Participants Committee seeks an effective date of the earlier of a Commission order accepting the filing, or April 24, 2001, sixty days after the filing.

The Participants Committee states that copies of these materials were sent to the New England state governors and regulatory commissions and the Participants in NEPOOL.

Comment date: March 16, 2001, in accordance with Standard Paragraph E at the end of this notice.

10. New England Power Pool

[Docket No. ER01-1309-000]

Take notice that on February 23, 2001, the New England Power Pool (NEPOOL), tendered a filing reflecting approval by the NEPOOL Participants of rate treatment for certain actual costs of the Vermont Electric Power Company (VELCO) incurred in the period January 1, 2001 through February 28, 2001 with respect to the deployment on an interim basis a generating unit to operate primarily as a synchronous condenser to enhance system reliability in light of the failure of a phase angle regulator, and for certain actual costs of VELCO incurred with respect to the repair of that phase angle regulator.

A January 1, 2001 effective date has been requested.

The Participants Committee states that copies of these materials were sent to the New England state governors and regulatory commissions and the Participants in NEPOOL.

Comment date: March 16, 2001, in accordance with Standard Paragraph E at the end of this notice.

11. Xcel Energy Services Inc.

[Docket No. ER01-1311-000]

Take notice that on February 23, 2001, Xcel Energy Services Inc., on behalf of Public Service Company of Colorado (PSCo), tendered for filing a Power Supply Agreement (Agreement) between PSCo and Cheyenne Light, Fuel and Power Company (Cheyenne). Pursuant to the Agreement, PSCo will supply Cheyenne partial requirements service until the end of 2001.

Xcel Services requests that the Agreement be made effective on February 25, 2001, the day after the termination of Cheyenne's existing partial requirements contract.

Comment date: March 16, 2001, in accordance with Standard Paragraph E at the end of this notice.

12. Entergy Services, Inc.

[Docket No. ER01-1314-000]

Take notice that on February 23, 2001, Entergy Services, Inc., on behalf of the Entergy Operating Companies, tendered for filing a Network Integration Transmission Service Agreement with Entergy Power Marketing Corp. (EPMC), and a Network Operating Agreement with EPMC.

Comment date: March 16, 2001, in accordance with Standard Paragraph E at the end of this notice.

13. AES Ironwood, L.L.C.

[Docket No. ER01-1315-000]

Take notice that on February 23, 2001, AES Ironwood, L.L.C., petitions the Commission for acceptance of AES Ironwood, L.L.C. Rate Schedule FERC No. 1, the granting of certain blanket approvals, including authority to sell capacity, energy and ancillary services at wholesale at market-based rates, and the waiver of certain Commission Regulations.

Comment date: March 16, 2001, in accordance with Standard Paragraph E at the end of this notice.

14. PacifiCorp

[Docket No. ER01-1316-000]

Take notice that on February 23, 2001, PacifiCorp, tendered for filing in accordance with 18 CFR 35 of the Commission's Rules and Regulations, Umbrella Service Agreements for Short-Term Firm and Non-Firm Transmission Service with Pacific Northwest Generating Cooperative (PNGC) under PacifiCorp's FERC Electric Tariff, Second Revised Volume No. 11 (Tariff).

Copies of this filing were supplied to the Washington Utilities and Transportation Commission and the Public Utility Commission of Oregon.

Comment date: March 16, 2001, in accordance with Standard Paragraph E at the end of this notice.

15. Allegheny Energy Service Corporation on behalf of Allegheny Energy Supply Company, LLC

[Docket No. ER01-1317-000]

Take notice that on February 23, 2001, Allegheny Energy Service Corporation on behalf of Allegheny Energy Supply Company, LLC (Allegheny Energy Supply), tendered for filing Service Agreement No. 110 to add one (1) new Customer to the Market Rate Tariff under which Allegheny Energy Supply offers generation services.

Allegheny Energy Supply requests a waiver of notice requirements for an effective date of January 26, 2001 for Minnesota Power Energy Exchange.

Copies of the filing have been provided to the Public Utilities Commission of Ohio, the Pennsylvania Public Utility Commission, the Maryland Public Service Commission, the Virginia State Corporation Commission, the West Virginia Public Service Commission, and all parties of record.

Comment date: March 16, 2001, in accordance with Standard Paragraph E at the end of this notice.

16. Delmarva Power & Light Company, Conectiv Delmarva Generation, Inc., Atlantic City Electric Company, Conectiv Atlantic Generation, LLC, Conectiv Energy Supply, Inc.

[Docket Nos. ER00-3322-003 and ER00-1770-003]

Take notice that on February 23, 2001, Conectiv tendered for filing a compliance filing in the above-captioned proceeding on behalf of its subsidiaries Delmarva Power & Light Company (Delmarva), Conectiv Delmarva Generation, Inc. (CDG), Atlantic City Electric Company (Atlantic), Conectiv Atlantic Generation, LLC (CAG) and Conectiv Energy Supply, Inc. (CESI).

Copies of the filing were served upon Delmarva's wholesale requirements customers, the Maryland Public Service Commission, Delaware Public Service Commission, New Jersey Public Service Commission, the Virginia State Corporation Commission and other persons shown on the list of recipients with this filing.

Comment date: March 16, 2001, in accordance with Standard Paragraph E at the end of this notice.

17. Public Service Company of New Mexico

[Docket No. ER01-615-001]

Take notice that on February 23, 2001, Public Service Company of New Mexico (PNM), tendered for filing Substitute Second Revised Sheet No. 2 to its FERC Electric Tariff, Original Volume No. 3. PNM states that the filing revises Section 4 of its market-based sales tariff in compliance with the Commission's January 24, 2001 order in Docket Nos. ER01-592-000 and ER01-615-000, Western Resources, Inc. and Public Service Company of New Mexico, 94 FERC 61,050 (2001).

Comment date: March 16, 2001, in accordance with Standard Paragraph E at the end of this notice.

18. Western Resources, Inc.

[Docket No. ER01-592-001]

Take notice that on February 23, 2001, Western Resources, Inc. (WR), tendered for filing Substitute Second Revised Sheet No. 1 to its FERC Electric Tariff, Original Volume No. 1. WR states that the filing revises Section 4 of its market-based sales tariff in compliance with the Commission's January 24, 2001 order in Docket Nos. ER01-592-000 and ER01-615-000, Western Resources, Inc. and Public Service Company of New Mexico, 94 FERC 61,050 (2001).

Comment date: March 16, 2001, in accordance with Standard Paragraph E at the end of this notice.

19. Ameren Energy, Inc.

[Docket No. ER01-466-001]

Take notice that on February 23, 2001, Ameren Energy, Inc. (Ameren Energy), tendered for filing a compliance filing required by the Commission's January 9, 2001 Order in Docket No. ER01-466-000.

Comment date: March 16, 2001, in accordance with Standard Paragraph E at the end of this notice.

20. New York Independent System Operator, Inc.

[Docket Nos. ER99-4235-004, ER00-798-004 and ER01-461-002]

Take notice that on February 23, 2001, the New York Independent System Operator, Inc. (NYISO) tendered for filing substitute sheets to its Market Administration and Control Area Services Tariff in the above-captioned dockets. The filing corrects an inadvertent error in a previous filing.

The NYISO has requested an effective date of January 2, 2001 for the filing, and has requested waiver of the Commission's notice requirements.

The NYISO has requested waiver of the Commission's service requirements. The documents are available for download from the NYISO's website at www.nyiso.com. Copies will be provided upon request.

Comment date: March 16, 2001, in accordance with Standard Paragraph E at the end of this notice.

21. Kentucky Utilities Company

[Docket No. ER01-1334-000]

Take notice that on February 23, 2001, Kentucky Utilities Company (KU), tendered for filing revisions to existing contracts between KU and its wholesale requirements customers.

KU requests an effective date of January 1, 2001 for these contracts.

Comment date: March 16, 2001, in accordance with Standard Paragraph E at the end of this notice.

Standard Paragraphs:

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-5488 Filed 3-6-01; 8:45 am]

BILLING CODE 6717-01-P